COMMISSION ON CIVIL RIGHTS

45 CFR Part 706

RIN 3035-AA02

Employee Responsibilities and Conduct Residual Cross-References Regulation of the United States Commission on Civil Rights

AGENCY: Commission on Civil Rights.

ACTION: Proposed rule.

SUMMARY: The United States Commission on Civil Rights (Commission) is proposing to repeal its old employee conduct regulations, which have been superseded by the executive branch Standards of Ethical Conduct, financial disclosure and financial interests regulations issued by the Office of Government Ethics (OGE) In place of its old regulations, the Commission is proposing to add a section of residual cross-references to those branchwide regulations as well as its proposed new supplemental standards regulations and certain executive branchwide conduct rules promulgated by the Office of Personnel Management (OPM).

DATES: Comments should be submitted on or before September 29, 2006 to be considered in the formulation of final rules.

ADDRESSES: Interested parties should submit written comments to: United States Commission on Civil Rights, Office of the Staff Director, Attn: Emma Monroig, Solicitor and Designated Agency Ethics Official, Esq., 624 Ninth Street, NW., Suite 621, Washington, DC 20425. E-mail comments should be addressed to emonroig@usccr.gov. Please cite 45 CFR part 706 in all correspondence related to these proposed revisions.

FOR FURTHER INFORMATION CONTACT: Emma Monroig, Esq., Solicitor and Designated Agency Ethics Official, Office of the Staff Director, United States Commission on Civil Rights, 624 Ninth Street, NW., Suite 621, Washington, DC 20425, (202) 376-7796; Facsimile: (202) 376-1163.

SUPPLEMENTARY INFORMATION: In 1992, OGE issued a final rule setting forth uniform executive branch Standards of Ethical Conduct (generally effective on February 3, 1993) and an interim final rule on financial disclosure, and in 1996 issued a final rule on financial interests for executive branch departments and agencies of the Federal Government and their employees. Those three executive branchwide regulations, as corrected and amended, are codified in 5 CFR parts 2634, 2635 and 2640. Together those regulations have superseded the old Commission regulations, based on prior OPM standards, on employee responsibilities and conduct at 45 CFR part 706 which the Commission is proposing to remove its superseded regulations, and add in place thereof, a new section containing residual cross-references to the provisions at 5 CFR parts 2634, 2635 and 2640, as well as to the proposed new Commission regulation supplementing the executive branchwide standards that is being separately published today elsewhere in this issue of the Federal Register for codification in a new chapter LXVIII of 5 CFR, to consist of part 7801. In addition, the Commission is proposing to include in its residual section a reference to the separate, specific executive branchwide provisions regarding gambling, safeguarding the examination process and conduct prejudicial to the Government which are set forth in 5 CFR part 735, as amended and reissued by OPM in 1992 and 2006. Those specific branchwide restrictions are not covered by in OGE's Standards of Ethical Conduct regulation; furthermore, they are self-executing and do not require any department or agency republication.

Matters of Regulatory Procedure

Executive Orders 12866 and 12988

Because this proposed rule relates to Commission personnel it is exempt from the provisions of Executive Orders 12866 and 12988.

Regulatory Flexibility Act

It has been determined under the Regulatory Flexibility Act (5 U.S.C. chapter 6) that this rule as proposed would not have a significant economic impact on a substantial number of small entities because it would primarily affect Commission employees.

Paperwork Reduction Act

It has been determined that the Paperwork Reduction Act (44 U.S.C. chapter 35) does not apply to this proposed rulemaking document, because it does not contain any information collection requirements that require the approval of the Office of Management and Budget.

Congressional Review Act

The Commission has determined that this rulemaking is not a rule as defined in 5 U.S.C. 804, and, thus, does not require review by Congress.

List of Subjects in 45 CFR Part 706

Conflict of interests, Government employees.

Dated: August 24, 2006.
Kenneth L. Marcus,
Staff Director, United States Commission on Civil Rights.
Dated: August 24, 2006.
Emma Monroig,
Solicitor and Designated Agency Ethics Official, United States Commission on Civil Rights.

For the reasons set forth in this preamble, the Commission is proposing to revise 45 CFR part 706 to read as follows:

PART 706—EMPLOYEE RESPONSIBILITIES AND CONDUCT

Authority: 5 U.S.C. 7301, 42 U.S.C. 1975b(d).

§ 766.1 Cross-references to employee ethical conduct standards, financial disclosure and financial interest regulations and other conduct rules.

Employees of the United States Commission on Civil Rights are subject to the executive branch standards of ethical conduct contained in 5 CFR part 2635, the Commission regulations at 5 CFR part 7801 (as proposed in a separate proposed rule document published elsewhere in this issue of the Federal Register) which supplement the executive branchwide standards, the executive branch financial disclosure regulations contained in 5 CFR part 2634, and the executive branch financial interests regulations contained in 5 CFR part 2640, as well as the executive branch employee responsibilities and conduct regulations contained in 5 CFR part 735.

[FR Doc. 06-7233 Filed 8-29-06; 8:45 am]

BILLING CODE 6335-01-M